DEPARTMENT OF COMMERCE

Economic Development Administration

Announcement of Performance Review Board Members

AGENCY: Economic Development Administration, Department of Commerce.

ACTION: Notice.

SUMMARY: This notice announces the names of new and existing members of the Economic Development Administration's Performance Review Board.

FOR FURTHER INFORMATION CONTACT: Darlene Haywood, International Trade Administration, Office of Human Resources Management, at (202) 482-2850, Room 7060, Washington DC 20230.

SUPPLEMENTARY INFORMATION: 5 CFR 430.310 requires agencies to publish notice of Performance Review Board appointees in the Federal Register before their service begins. The role of the Performance Review Board is to review and make recommendations to the appointing authority on performance management issues such as appraisals, pay adjustments, bonuses, and Presidential Rank Awards for members of the Senior Executive Service. Dr. David Sampson, Assistant Secretary, Economic Development Administration (EDA), has named the following members of the Economic Development Administration Performance Review Board:

1. Mary Pleffner, Deputy Assistant Secretary for Management Services and Chief Financial Officer, EDA (Chairperson)

2. Sandy Baruah, Chief of Staff, EDA (new)

3. Lisa Casias, Deputy Director for Financial Management Policy, Office of the Secretary (new)

4. Denise Wells, Director, Office of Administrative Services, Office of the Secretary (new)

5. Fred Schwien—Executive Secretary, Office of the Secretary (new)

6. Eleanor Lewis, Chief Counsel for International Commerce, Department of Commerce (outside reviewer)

7. Darlene F. Haywood, Executive Secretary to the EDA Performance Review Board, ITA Office of Human Resources Management

Dated: September 7, 2004.
Doris W. Brown,
Human Resources Officer.

[FR Doc. 04-20611 Filed 9-10-04; 8:45 am]

BILLING CODE 3510-25-P